ENVIRONMENTAL PROTECTION AGENCY

[FRL- 9962-81-OA]

Notification of a Public Meeting of the Science Advisory Board (SAB) Risk and Technology Review (RTR) Methods Panel

AGENCY: Environmental Protection Agency (EPA).

ACTION: Notice.

SUMMARY: The EPA Science Advisory Board (SAB) Staff Office announces a public meeting of the Science Advisory Board (SAB) Risk and Technology Review (RTR) Methods Panel to peer review EPA's draft Screening Methodologies to Support Risk and Technology Reviews (RTR) (External Review Draft May, 2017).

DATES: The public meeting will be held on Thursday, June 29, 2017, from 9:00 a.m. to 5:00 p.m. (Eastern Time) and Friday, June 30, 2017, from 9:00 a.m. to 4:00 p.m. (Eastern Time).

Location: The public meeting will be held at the Hyatt Regency Crystal City, 2799 Jefferson Davis Highway, Arlington, VA 22202.

FOR FURTHER INFORMATION CONTACT: Any member of the public wishing to obtain information concerning the public meeting may contact Dr. Bryan Bloomer, Designated Federal Officer (DFO), at (202) 564-4222 or bloomer.bryan@epa.gov. General information about the SAB, as well as, any updates concerning the meetings announced in this notice, may be found on the SAB Web page at http://www.epa.gov/sab.

SUPPLEMENTARY INFORMATION:

Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. The SAB RTR Methods Panel will comply with the provisions of FACA and all appropriate SAB Staff Office procedural policies. Pursuant to FACA and EPA Policy, notice is hereby given that the SAB RTR Methods Panel will hold a public face-to-face meeting to peer review EPA's draft Screening Methodologies to Support Risk and Technology Reviews (RTR) (External Review Draft May, 2017). The Panel will provide advice to the Administrator through the Chartered SAB.

EPA's Office of Air Quality Planning and Standards (OAQPS) has requested that the SAB conduct a review of the methods for conducting Risk and Technology Review Assessments in conjunction with assessments of residual risk required by the Clean Air Act. These assessments evaluate the effects of industrial emissions of hazardous air pollutants (HAPs) on public health and the environment. Additional information about this SAB advisory activity can be found at http://yosemite.epa.gov/sab/sabproduct.nsf/fedrgstr_activites/RTR%20Screening%20Methods%20Review?OpenDocument.

Technical Contacts: Any technical questions concerning EPA's draft Screening Methodologies to Support Risk and Technology Reviews (RTR) (External Review Draft May, 2017), should be directed to Chris Sarsony, EPA Office of Air and Radiation, Office of Air Quality Planning and Standards, at (919) 541-4843 or sarsony.chris@epa.gov.

Availability of Meeting Materials: Prior to the meeting, the review documents, agenda, and other materials will be available on the SAB Web page at http://www.epa.gov/sab/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments on the topic of this advisory activity, including the charge to the panel and the EPA review documents, and/or the group conducting the activity, for the SAB to consider as it develops advice for EPA. Input from the public to the SAB will have the most impact if it provides specific scientific or technical information or analysis for SAB panels to consider or if it relates to the clarity or accuracy of the technical information. Members of the public wishing to provide comment should follow the instructions below to submit comments.

Oral Statements: In general, individuals or groups requesting an oral presentation at a public meeting will be limited to five minutes. Each person making an oral statement should consider providing written comments, as well as, their oral statement so that the points presented orally can be expanded upon in writing. Interested parties should contact Dr. Bryan Bloomer, DFO, in writing (preferably via email) at the contact information noted above by June 23, 2017, to be placed on the list of public speakers.

Written Statements: Written statements will be accepted throughout the advisory process; however, for timely consideration by Panel members, statements should be supplied to the DFO (preferably via email) at the contact information noted above by June 23, 2017. It is the SAB Staff Office general policy to post written comments on the Web page for the advisory meeting or teleconference. Submitters are requested to provide an unsigned version of each document because the SAB Staff Office does not publish documents with signatures on its Web sites. Members of the public should be aware that their personal contact information, if included in any written comments, may be posted to the public Web site. Copyrighted material will not be posted without explicit permission of the copyright holder.

Accessibility: For information on access or services for individuals with disabilities, please contact Dr. Bryan Bloomer at (202) 564-4222 or bloomer.bryan@epa.gov. To request accommodation of a disability, please contact Dr. Bloomer preferably at least ten days prior to each meeting to give EPA as much time as possible to process your request.

Dated: May 11, 2017.
Christopher S. Zarba,
Director, EPA Science Advisory Staff Office.

[FR Doc. 2017-11701 Filed 6-5-17; 8:45 am]

BILLING CODE 6560-50-P